DEPARTMENT OF HOUSING AND URBAN DEVELOPMENT

[Docket No. FR-5871-N-04]

Notice of Regulatory Waiver Requests Granted for the Fourth Quarter of Calendar Year 2015

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2015, and ending on December 31, 2015.

FOR FURTHER INFORMATION CONTACT: For general information about this notice, contact Camille E. Acevedo, Associate General Counsel for Legislation and Regulations, Department of Housing and Urban Development, 451 7th Street SW., Room 10282, Washington, DC 20410-0500, telephone 202-708-1793 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the fourth quarter of calendar year 2015.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2015 through September 30, 2015. For ease of reference, the waivers granted by HUD are listed by HUD program office (for example, the Office of Community Planning and Development, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the fourth quarter of calendar year 2015) before the next report is published (the first quarter of calendar year 2016), HUD will include any additional waivers granted for the fourth quarter in the next report.

Accordingly, information about approved waiver requests pertaining to HUD regulations is provided in the Appendix that follows this notice.

Dated: March 11, 2016.
Helen R. Kanovsky,
General Counsel.

Appendix

Listing of Waivers of Regulatory Requirements Granted by Offices of the Department of Housing and Urban Development October 1, 2015 Through December 31, 2015

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 92.251(a)(1).

Project/Activity: The City of East Cleveland, OH requested a waiver of 24 CFR 92.251(a)(1) to allow the City to consider a homeowner rehabilitation activity that cannot be brought into compliance with local rehabilitation standards.

Nature of Requirement: The HOME Investment Partnerships Program (HOME) regulation at 24 CFR 92.251(a)(1) requires all housing rehabilitated with HOME funds to meet all applicable local codes and rehabilitation standards at the time of project completion.

Granted By: Harriet Tregoning, Principal Deputy Assistant Secretary for Community Planning and Development.

Date Granted: October 21, 2015.

Reason Waived: The City expended $83,749.77 of the $91,101 HOME funds committed to a homeowner rehabilitation project in 2004, but the homeowner refused to permit the City to complete the rehabilitation work necessary to bring the property fully into compliance with local rehabilitation standards. The City made exhaustive efforts to complete the project, but was unable to obtain the homeowner's permission to complete the rehabilitation work. HUD waived the property standard because the City could not meet the property standards despite its due diligence.

Contact: Virginia Sardone, Director, Office of Affordable Housing Programs, Office of Community Planning and Development, Department of Housing and Urban Development, 451 7h Street SW., Room 7164, Washington, DC 20410, telephone (202) 708-2684.

• Regulation: 24 CFR 92.214(a)(6).

Project/Activity: Prince George's County, MD requested a waiver of 24 CFR 92.214(a)(6) in order to invest $850,000 of HOME funds into Rainer Manor Phase II, a 57-unit affordable housing project for low-income seniors that had been previously assisted with HOME funds during the period of affordability.

Nature of Requirement: The regulation at 24 CFR 92.214(a)(6) prohibits, except for one year after project completion, HOME assistance from being provided to a project that was previously assisted with HOME funds during the period of affordability established by the participating jurisdiction in the written agreement required by 24 CFR 92.504.

Granted By: Harriet Tregoning, Principal Deputy Assistant Secretary for Community Planning and Development.

Date Granted: November 20, 2015.

Reason Waived: Rainer Manor Phase II will be developed on a parcel of land subdivided and purchased from the original Rainer Manor project (Rainier Manor I), a project previously assisted with $2,325,000 of HOME funds. HUD granted a waiver to invest additional HOME funds because of the shortage of affordable housing options for low-income seniors in the County. The additional 6 HOME units will be subject to a 40 year period of affordability, and part of the land sale proceeds will be used to supplement the replacement reserves for Rainier Manor I.

Contact: Virginia Sardone, Director, Office of Affordable Housing Programs, Office of Community Planning and Development, Department of Housing and Urban Development, 451 7th Street SW., Room 7164, Washington, DC 20410, telephone (202) 708-2684.

• Regulation: 24 CFR 92.252(j) and 24 CFR 92.504(a).

Project/Activity: In 1996, the Commonwealth of Kentucky designated all 32 units of the Park Place Townhomes in Prestonsburg as HOME-assisted with a 40 year period of affordability period, which designation far exceeded the minimum requirements established in the HOME regulations. As a result of a weak local affordable housing market, Park Place Townhomes has experienced negative cash flow, low rental income, and high debt collection losses. The Commonwealth of Kentucky requested a waiver of 24 CFR 92.252(j) and 24 CFR 92.504(a) in order to reduce the number of HOME units as units become vacant, and the period of affordability to 20 years, the minimum that the HOME regulations require. This action will help the Commonwealth to recapitalize and rehabilitate the project in the near future so that it can become financially viable.

Nature of Requirement: The regulation at 24 CFR 92.252(j) requires the participating jurisdiction to designate the HOME-assisted units in the written agreement with the owner and maintain that number of units through the period of affordability. The regulation at 24 CFR 92.504(a) requires the participating jurisdiction to ensure that all HOME funds are used in accordance with HOME program requirements and the written agreement.

Granted By: Harriet Tregoning, Principal Deputy Assistance Secretary for Community Planning and Development.

Date Granted: December 9, 2015.

Reason Waived: HUD granted the request because of the highly unusual market conditions in the area. There is an oversupply of affordable rental units resulting in a high vacancy rate for HOME-assisted units in the project. The vacancy rate and resulting operating deficit will lead to default and foreclosure in the near term. Reducing the number of HOME units and the period of affordability to what the HOME regulations require, will help the Commonwealth to recapitalize and rehabilitate the project in the near future so that it can become financially viable.

Contact: Virginia Sardone, Director, Office of Affordable Housing Programs, Office of Community Planning and Development, Department of Housing and Urban Development, 451 7th Street SW., Room 7164, Washington, DC 20410, telephone (202) 708-2684.

II. Regulatory Waivers Granted by the Office of Housing

For further information about the following regulatory waivers, please see the name of the contact person that immediately follows the description of the waiver granted.

• Regulation: 24 CFR 200.73(c).

Project/Activity: Glynn Courtyard Apartments, Bath, Maine, Project Number: 022-44007.

Nature of Requirement: HUD's regulation at 24 CFR 200.73(c) requires, in relevant part that “not less than five rental dwelling units [of an FHA insured multifamily housing project] shall be on one site.”

Granted by: Edward L. Golding, Principal Deputy Assistant Secretary for Housing.

Date Granted: December 9, 2015.

Reason Waived: The project has been professionally managed as one project since inception. The project has one operating budget and the physical improvements have been ongoing. This, coupled with the project's name change and improved reputation, has contributed to a steady average occupancy of 98 percent. Demand for affordable housing and rental housing in general in Bath, Maine is high. There have been no building permits for multifamily rental units issued in the last ten years. The owner has elected to maintain the project as affordable by agreeing to a Rental Use Agreement, dedicating 20 percent of the units for households at or below 50 percent of median income for the life of the 223(f) loan.

Contact: Theodore K. Toon, Director, FHA Multifamily Production, Office of Multifamily Housing Programs, Office of Production, Office of Housing, Department of Housing and Urban Development, 451 7th Street SW., Room 6134, Washington, DC 20410, telephone (202) 402-8386.

• Regulation: 24 CFR 219.220(b).

Project/Activity: St. John's Towers, FHA Project Number 052-SH007, Havre de Grace, MD. St. John's Towers, Incorporated (Owner) seeks approval to defer repayment of the Flexible Subsidy Operating Assistance Loans on the subject project.

Nature of Requirement: HUD's regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted by: Edward L. Golding, Principal Deputy Assistant Secretary for Housing.

Date Granted: October 22, 2015.

Reason Waived: The owner requested and was granted waiver of the requirement to repay the Flexible Subsidy Operating Assistance Loan in full when it became due. Deferring the loan payment will preserve this affordable housing resource for an additional 35 years through the execution and recordation of a Rental Use Agreement.

Contact: Cindy Bridges, Account Executive, Office of Housing, Department of Housing and Urban Development, 451 7th Street SW., Washington, DC 20410, telephone (202) 402-2603.

• Regulation: 24 CFR 219.220(b).

Project/Activity: Stephen Smith Towers, FHA Project Number 034-SH015, Philadelphia, PA. Stephen Smith Towers, Incorporated (Owner) seeks approval to defer repayment of the Flexible Subsidy Operating Assistance Loan on the project.

Nature of Requirement: HUD's regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted by: Edward L. Golding, Principal Deputy Assistant Secretary for Housing.

Date Granted: November 3, 2015.

Reason Waived: The owner requested and was granted waiver of the requirement to repay the Flexible Subsidy Operating Assistance Loan in full when it is due. Deferring the loan payment will preserve this affordable housing resource for an additional 35 years through the execution and recordation of a Rental Use Agreement.

Contact: Cindy Bridges, Account Executive, Office of Housing, Department of Housing and Urban Development, 451 Seventh Street SW., Room 6168, Washington, DC 20410, telephone (202) 402-2603.

• Regulation: 24 CFR 219.220(b).

Project/Activity: Miles City Eagles Manor, FHA Project Number 093-44805, Miles City, MT. Miles City Eagles Manor (Owner) seeks approval to defer repayment of the Flexible Subsidy Operating Assistance Loan on the project.

Nature of Requirement: HUD's regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted by: Edward L. Golding, Principal Deputy Assistant Secretary for Housing.

Date Granted: November 20, 2015.

Reason Waived: The owner requested and was granted waiver of the requirement to repay the Flexible Subsidy Operating Assistance Loan in full when it is due. Deferring the loan payment will preserve this affordable housing resource for an additional 20 years through the execution and recordation of a Rental Use Agreement.

Contact: Marilyn Carlson, Account Executive, Office of Housing, Department of Housing and Urban Development, 451 Seventh Street SW., Room 6156, Washington, DC 20410, telephone (202) 402-2602.

• Regulation: 24 CFR 266.200(b)(2).

Project/Activity: Federal Financing Bank (FFB) Risk Sharing Initiative, Substantial Rehabilitation Defined. Colorado Housing and Finance Authority (CHFA).

Nature of Requirement: HUD's regulation at 24 CFR 266.200(b)(2) defines substantial rehabilitation as any combination of covered work to the existing facilities of a project that aggregates to at least 15 percent of project's value after the rehabilitation and that results in material improvement of the project's economic life, livability, marketability, and profitability. Covered work includes replacement, alteration and/or modernization of building spaces, long-lived building or mechanical system components, or project facilities. The following changes apply to both Level I and II Housing Finance Agencies Definition of Substantial Rehabilitation (S/R) revised as: Work that exceeds either: (a) $15,000 times the high cost factor “as adjusted by HUD for inflation”, or (b) replacement of two or more building systems. ‘Replacement’ is when cost of replacement work exceeds 50 percent of the cost of replacing the entire system. The base limit is revised to $15,000 per unit for 2015, and will be adjusted annually based on the percentage change published by the Consumer Financial Protection Bureau, or other inflation cost index published by HUD. This is consistent with proposed changes in MAP Guide.

Granted by: Edward L. Golding, Principal Deputy Assistant Secretary for Housing.

Date Granted: October 23, 2015.

Reason Waived: The waiver was necessary to effectuate the Federal Financing Bank (FFB) Risk Sharing Initiative (Initiative) between HUD and the Treasury Department/FFB announced in Fiscal Year 2014. The waiver is consistent with changes that HUD's Office of Multifamily Housing is seeking now to the regulation and as previously approved in March 2015 for the first 11 HFAs participating in the Initiative. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 7th Street SW., Room 6134, Washington, DC 20410, telephone (202) 402-8386.

• Regulation: 24 CFR 266.200(b)(2).

Project/Activity: Federal Financing Bank (FFB) Risk Sharing Initiative, Substantial Rehabilitation Defined. New Hampshire Housing Finance Agency (NHHFA).

Nature of Requirement: HUD's regulation at 24 CFR 266.200(b)(2) defines substantial rehabilitation as any combination of covered work to the existing facilities of a project that aggregates to at least 15 percent of project's value after the rehabilitation and that results in material improvement of the project's economic life, livability, marketability, and profitability. Covered work includes replacement, alteration and/or modernization of building spaces, long-lived building or mechanical system components, or project facilities. The following changes apply to both Level I and II Housing Finance Agencies Definition of Substantial Rehabilitation (S/R) revised as: Work that exceeds either: (a) $15,000 times the high cost factor “as adjusted by HUD for inflation”, or (b) replacement of two or more building systems. ‘Replacement’ is when cost of replacement work exceeds 50 percent of the cost of replacing the entire system. The base limit is revised to $15,000 per unit for 2015, and will be adjusted annually based on the percentage change published by the Consumer Financial Protection Bureau, or other inflation cost index published by HUD. This is consistent with proposed changes in MAP Guide.

Granted by: Edward L. Golding, Principal Deputy Assistant Secretary for Housing.

Date Granted: October 23, 2015.

Reason Waived: The waiver was necessary to effectuate the Federal Financing Bank (FFB) Risk Sharing Initiative (Initiative) between HUD and the Treasury Department/FFB announced in Fiscal Year 2014. The waivers are consistent with changes that HUD's Office of Multifamily Housing is seeking now to the regulation and as previously approved in March 2015 for the first 11 HFAs participating in the Initiative. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 7th Street SW., Room 6134, Washington, DC 20410, telephone (202) 402-8386.

• Regulation: 24 CFR 266.200(b)(2).

Project/Activity: Federal Financing Bank (FFB) Risk Sharing Initiative, Substantial Rehabilitation Defined. Vermont Housing Finance Agency (VHFA).

Nature of Requirement: HUD's regulation at 24 CFR 266.200(b)(2) defines substantial rehabilitation as any combination of covered work to the existing facilities of a project that aggregates to at least 15 percent of project's value after the rehabilitation and that results in material improvement of the project's economic life, livability, marketability, and profitability. Covered work includes replacement, alteration and/or modernization of building spaces, long-lived building or mechanical system components, or project facilities. The following changes apply to both Level I and II Housing Finance Agencies Definition of Substantial Rehabilitation (S/R) revised as: Work that exceeds either: (a) $15,000 times the high cost factor “as adjusted by HUD for inflation”, or (b) replacement of two or more building systems. ‘Replacement’ is when cost of replacement work exceeds 50 percent of the cost of replacing the entire system. The base limit is revised to $15,000 per unit for 2015, and will be adjusted annually based on the percentage change published by the Consumer Financial Protection Bureau, or other inflation cost index published by HUD. This is consistent with proposed changes in MAP Guide.

Granted by: Edward L. Golding, Principal Deputy Assistant Secretary for Housing.

Date Granted: October 23, 2015.

Reason Waived: The waiver was necessary to effectuate the Federal Financing Bank (FFB) Risk Sharing Initiative (Initiative) between HUD and the Treasury Department/FFB announced in Fiscal Year 2014. The waiver is consistent with changes that HUD's Office of Multifamily Housing is seeking now to the regulation and as previously approved in March 2015 for the first 11 HFAs participating in the Initiative. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 7th Street SW., Room 6134, Washington, DC 20410, telephone (202) 402-8386.

• Regulation: 24 CFR 266.200(c)(2).

Project/Activity: Federal Financing Bank (FFB) Risk Sharing Initiative, Equity Take-Outs. New Hampshire Housing Finance Authority (NHHFA).

Nature of Requirement: HUD's regulation at 24 CFR 266.200(c)(2) allows existing projects to be refinanced if certain criteria are met. If the property is subject to an HFA financed loan to be refinanced and such refinancing will result in the preservation of affordable housing, refinancing of these properties is permissible if project occupancy is not less than 93 percent (to include consideration of rent in arrears), based on the average occupancy in the project over the most recent 12 months, and the mortgage does not exceed an amount supportable by the lower of the unit rents being collected under the rental assistance agreement or the unit rents being collected at unassisted projects in the market area that are similar in amenities and location to the project for which insurance is being requested. The HUD-insured mortgage may not exceed the sum of the existing indebtedness, cost of refinancing, the cost of repairs and reasonable transaction costs as determined by the Commissioner. If a loan to be refinanced has been in default within the 12 months prior to application for refinancing, the HFA must assume not less than 50 percent of the risk. Equity take-outs for existing projects (refinance transactions) permit the insured mortgage to exceed the sum of the total cost of acquisition, cost of financing, cost of repairs, and reasonable transaction costs or “equity take-outs” in refinances of HFA-financed projects and those outside of HFA's portfolio if the result is preservation with the following conditions: (1) Occupancy is no less than 93 percent for previous 12 months; (2) no defaults in the last 12 months of the HFA loan to be refinanced; (3) a 20 year affordable housing deed restriction placed on title that conforms to the 542(c) statutory definition; (4) a Capital Needs Assessment (CNA) must be performed and funds escrowed for all necessary repairs, and reserves funded for future capital needs; and (5) for projects subsidized by Section 8 Housing Assistance Payment (HAP) contracts, the Owner agrees to renew HAP contract(s) for 20 year term, (subject to appropriations and statutory authorization, etc.), and existing and post-refinance HAP residual receipts are set aside to be used to reduce future HAP payments.

Granted by: Edward L. Golding, Principal Deputy Assistant Secretary for Housing.

Date Granted: October 23, 2015.

Reason Waived: The waiver was necessary to effectuate the Federal Financing Bank (FFB) Risk Sharing Initiative (Initiative) between HUD and the Treasury Department/FFB announced in Fiscal Year 2014. The waiver is consistent with changes that HUD's Office of Multifamily Housing is seeking now to the regulation and as previously approved in March 2015 for the first 11 HFAs participating in the Initiative. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 7th Street SW., Room 634, Washington, DC 20410, telephone (202) 402-8386.

• Regulation: 24 CFR 891.165.

Project/Activity: Montclair 4, Montclair, CA, Project Number: 143-HD018/CA43-Q091-001.

Nature of Requirement: Section 891.165 provides that the duration of the fund reservation of the capital advance is 18-months from the date of issuance with limited exceptions up to 36 months, as approved by HUD on a case-by-case basis.

Granted By: Edward L. Golding, Principal Deputy Assistant Secretary for Housing.

Date Granted: October 22, 2015.

Reason Waived: Additional time was needed for the office to complete the review of the closing documents and for the Office of General Counsel to schedule the closing for this mixed-financed project.

Contact: Alicia Anderson, Branch Chief, Grants and New Funding, Office of Housing, Department of Housing and Urban Development, 451 7th Street SW., Room 6138, Washington, DC 20410, telephone (202)402-5787.

• Regulation: 24 CFR 891.165.

Project/Activity: Ludlow Commons, Yonkers, NY, Project Number: 012-EE383/ NY36-S101-007.

Nature of Requirement: Section 891.165 provides that the duration of the fund reservation of the capital advance is 18-months from the date of issuance with limited exceptions up to 36 months, as approved by HUD on a case-by-case basis.

Granted By: Edward L. Golding, Principal Deputy Assistant Secretary for Housing.

Date Granted: October 22, 2015.

Reason Waived: Additional time was needed for the office to process the firm commitment package.

Contact: Alicia Anderson, Branch Chief, Grants and New Funding, Office of Housing, Department of Housing and Urban Development, 451 7th Street SW., Room 6138, Washington, DC 20410, telephone (202)402-5787.

• Regulation: 24 CFR 891.165.

Project/Activity: Sagetree Terrace, Houston, TX, Project Number: 114-EE149/TX24-S101-003.

Nature of Requirement: Section 891.165 provides that the duration of the fund reservation of the capital advance is 18-months from the date of issuance with limited exceptions up to 36 months, as approved by HUD on a case-by-case basis.

Granted By: Edward L. Golding, Principal Deputy Assistant Secretary for Housing.

Date Granted: November 13, 2015.

Reason Waived: Additional time was needed for the office to process the firm commitment package.

Contact: Alicia Anderson, Branch Chief, Grants and New Funding, Department of Housing and Urban Development, 4517th Street SW., Room 6138, Washington, DC 20410, telephone (202)402-5787.

• Regulation: 24 CFR 891.165.

Project/Activity: Golf View Apartments, Miami, FL, Project Number: 066-EE121/ FL29-S101-008.

Nature of Requirement: Section 891.165 provides that the duration of the fund reservation of the capital advance is 18-months from the date of issuance with limited exceptions up to 36 months, as approved by HUD on a case-by-case basis.

Granted By: Edward L. Golding, Principal Deputy Assistant Secretary for Housing.

Date Granted: November 13, 2015.

Reason Waived: Additional time was needed for the office to process the firm commitment package.

Contact: Alicia Anderson, Branch Chief, Grants and New Funding, Office of Housing, Department of Housing and Urban Development, 451 7th Street SW., Room 6138, Washington, DC 20410, telephone (202)402-5787.

• Regulation: 24 CFR 891.165.

Project/Activity: Middletown Homes 2009, Middletown, NJ, Project Number: 031-HD168/NJ39-Q101-003

Nature of Requirement: Section 891.165 provides that the duration of the fund reservation of the capital advance is 18-months from the date of issuance with limited exceptions up to 36 months, as approved by HUD on a case-by-case basis.

Granted By: Edward L. Golding, Principal Deputy Assistant Secretary for Housing.

Date Granted: December 9, 2015.

Reason Waived: Additional time was needed for unforeseen delays due to permits and to initially close the project.

Contact: Alicia Anderson, Branch Chief, Grants and New Funding, Office of Housing, Department of Housing and Urban Development, 451 7th Street SW., Room 6138, Washington, DC 20410, telephone (202)402-5787.

• Regulation: 24 CFR 891.100(d).

Project/Activity: Oscar Eason Senior Elderly Apartments, San Antonio, TX, Project Number: 115-EE097/TX59-S101-003.

Nature of Requirement: Section 891.100(d) prohibits amendment of the amount of the approved capital advance funds prior to closing.

Granted By: Edward L. Golding, Principal Deputy Assistant Secretary for Housing.

Date Granted: December 16, 2015.

Reason Waived: The project is economically designed and comparable in cost to similar projects in the area, and the sponsor/owner exhausted all efforts to obtain additional funding from other sources.

Contact: Alicia Anderson, Branch Chief, Grants and New Funding, Office of Housing, Department of Housing and Urban Development, 451 7th Street SW., Room 6138, Washington, DC 20410, telephone (202)402-5787.

• Regulation: Section (IV)(E) of the FY 2014—FY 2015 Comprehensive Housing Counseling Program (HCP) Notice of Funding Availability (NOFA).

Project/Activity: This waiver is applicable to all grant funds provided under the FY 2014—FY 2015 Comprehensive HCP NOFA during Fiscal Year 2015 for use October 1, 2014 through September 30, 2016.

Nature of Requirement: Section (IV)(E) of the FY 2014—FY 2015 Comprehensive HCP NOFA would prohibit HUD HCP participants from using HUD HCP grant funds under the NOFA to reimburse housing counseling activity costs for any counseling recipient for which the program participant also received a National Foreclosure Mitigation Counseling (NFMC) Program reimbursement.

Granted By: Edward L. Golding, Principal Deputy Assistant Secretary for Housing.

Date Granted: September 23, 2015.

Reason Waived: HUD found good cause to waive Section (IV)(E) and enable program participants to use FY 2015 HUD HCP grant funds in conjunction with NFMC grant funds because housing counseling industry conditions have changed since the restriction was originally implemented in FY 2012. Funding for the NFMC Program has decreased in recent years; however, housing counseling agencies still continue to provide counseling services in foreclosure prevention for clients who face long-term, complex foreclosure cases. Fixed-price reimbursements provided to counseling agencies under the NFMC Program are insufficient to cover the counseling costs, and the funding restriction had the unintended consequence of creating a hardship for housing counseling agencies and their clients who are involved in complex foreclosure cases.

Contact: Brian Siebenlist, Director, Office of Policy and Grant Administration, Office of Housing Counseling, Department of Housing and Urban Development, 451 7th Street SW., Room 7282, Washington, DC 20410, telephone (202) 402-4548.

III. Regulatory Waivers Granted by the Office of Public and Indian Housing

For further information about the following regulatory waivers, please see the name of the contact person that immediately follows the description of the waiver granted.

• Regulation: 24 CFR 905.314(l)(1).

Project/Activity: The Madison, Wisconsin, Community Development Authority (MCDA).

Nature of Requirement: HUD's regulation at 24 CFR 905.314(l)(1) and section 9(g)(1) of the United States Housing Act of 1937 (1937 Act) provides that Large PHAs may use no more than 20 percent of their annual Capital Fund grant for activities that are eligible under the Operating Fund. However, the Consolidated and Further Continuing Appropriations Act, 2015 (Pub. L. 113-235) permits any PHA to use up to 25 percent of annual Capital Fund grants to for Operating Fund activities and to also permit waivers of the statutory limitation in section 9(e)(1)(C) of the 1937 Act and allow Capital Funds to be used for above baseline anticrime and antidrug activities.

Granted by: Lourdes Castro Ramirez, Principal Deputy Assistant Secretary for Public and Indian Housing.

Date Granted: December 11, 2015.

Reason Waiver: The waiver was granted to allow MCDA to use Capital Funds in excess of 20 percent of its 2015 Capital Fund grant to fund above baseline anticrime and antidrug activities, Operating Fund-eligible activities, based on the authority permitted by Public Law 113-235.

Contact: Dominique Blom, Deputy Assistant Secretary for the Office of Public Housing Investments, Office of Public and Indian Housing, 451 7th Street SW., Washington, DC 20140, Room 4130, telephone (202) 402-4181.

• Regulation: 24 CFR 5.801(c)(1) and 24 CFR 5.801(d)(1).

Project/Activity: Harrison County Housing Authority.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Lourdes Castro Ramírez, Principal Deputy Assistant Secretary for Public and Indian Housing.

Date Granted: October 16, 2015.

Reason Waived: The housing authority is a Section 8 only and nonprofit entity requesting additional time to submit its audited financial data for fiscal year end December 31, 2014. The agency is under investigation by HUD's Office of Inspector General (OIG), in addition to an assessment of operations conducted by the Departmental Enforcement Center (DEC). The additional time would allow the completion of the DEC assessment and provide the necessary time needed for the auditor to complete the agency's audited financial data report.

Contact: Dee Ann R. Walker, Acting Program Manager, NASS, Real Estate Assessment Center, Office of Public and Indian Housing, Department of Housing and Urban Development, 550 12th Street SW., Suite 100, Washington, DC 20410, telephone (202) 475-7908.

• Regulation: 24 CFR 5.801(c)(1) and 24 CFR 5.801(d)(1).

Project/Activity: Texarkana Housing Authority.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Lourdes Castro Ramírez, Principal Deputy Assistant Secretary for Public and Indian Housing.

Date Granted: October 15, 2015.

Reason Waived: The housing authority is requesting an additional 31 days to submit its audited financial data for its fiscal year end of December 31, 2014. The agency has experienced constant change in Executive Directors and Financial Directors leading to investigations by HUD's Office of Inspector General (OIG), in addition to investigations conducted by the Federal Bureau of Investigations (FBI). The additional time would allow for the necessary time needed by the auditor to complete the agency's audited financial data report.

Contact: Dee Ann R. Walker, Acting Program Manager, NASS, Real Estate Assessment Center, Office of Public and Indian Housing, Department of Housing and Urban Development, 550 12th Street SW., Suite 100, Washington, DC 20410, telephone (202) 475-7908.

• Regulation: 24 CFR 982.503(a)(3).

Project/Activity: Housing Authority of the County of Los Angeles (HACoLA), Alhambra, CA.

Nature of Requirement: HUD's regulation at 24 CFR 982.503(a)(3) states that the public housing agency's (PHA) voucher payment standard schedule shall establish a single payment standard amount for each unit size. For each unit size, the PHA may establish a single payment standard amount for the whole fair market rent (FMR) area, or may establish a separate payment standard amount for each designated part of the FMR area.

Granted By: Lourdes Castro Ramírez, Principal Deputy Assistant Secretary for Public and Indian Housing.

Date Granted: November 16, 2015.

Reason Waived: For HACoLA, HUD-VASH families take considerably longer to locate affordable units than non HUD-VASH families. This is due in part to extremely low vacancy rates and the high cost of housing, which particularly affect VASH families. The waiver will allow veterans to be more successful in locating suitable housing.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.503(a)(3).

Project/Activity: San Diego Housing Commission (SDHC), San Diego, CA.

Nature of Requirement: HUD's regulation at 24 CFR 982.503(a)(3) states that the public housing agency's (PHA) voucher payment standard schedule shall establish a single payment standard amount for each unit size. For each unit size, the PHA may establish a single payment standard amount for the whole fair market rent (FMR) area, or may establish a separate payment standard amount for each designated part of the FMR area.

Granted By: Lourdes Castro Ramírez, Principal Deputy Assistant Secretary for Public and Indian Housing.

Date Granted: December 4, 2015.

Reason Waived: For SDHC, HUD-VASH families face current barriers to housing homeless veterans at the current payment standards due to: (1) A competitive local housing market with a shortage of affordable rental units; (2) landlords able to charge higher rents to market rate tenants; (3) landlord reluctance to rent to homeless individuals due to poor credit history; and (4) a rental market with low vacancy rates and high rent burden.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.503(a)(3).

Project/Activity: Housing Authority of the County of Santa Clara (HACSC), San Jose, CA.

Nature of Requirement: HUD's regulation at 24 CFR 982.503(a)(3) states that the public housing agency's (PHA) voucher payment standard schedule shall establish a single payment standard amount for each unit size. For each unit size, the PHA may establish a single payment standard amount for the whole fair market rent (FMR) area, or may establish a separate payment standard amount for each designated part of the FMR area.

Granted By: Lourdes Castro Ramírez, Principal Deputy Assistant Secretary for Public and Indian Housing.

Date Granted: December 22, 2015.

Reason Waived: Santa Clara County has one of the tightest rental markets in the nation. According to HUD data, the average vacancy rate for the last four quarters ending June 30, 2015, was 0.6 percent. HUD data also reflects that as of September 30, 2015, the leasing rate for HACSC's HUD-VASH participants was only 55 percent (of the 853 HUD-VASH vouchers awarded, only 468 were leased). In addition, the success rate for HUD-VASH voucher holders is only 29 percent for vouchers that are issued with extensions on the term of the voucher for up to a year. Because HUD-VASH families are traditionally more difficult to house and affordable housing is in short supply, HACSC wished to establish a different payment standard schedule at 120 percent of the 2015 FMRs for participants in its HUD-Veterans Affairs Supportive Housing (HUD-VASH) program.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.503(c)(3) through (5).

Project/Activity: Housing Authority of the County of Alameda (HACA), Hayward, CA.

Nature of Requirement: HUD's regulations at 24 CFR 982.503(c)(3) and (5) allow the Secretary to approve an exception payment standard over 120 percent of the fair market rents (FMR) with justification and for no more than 50 percent of the population of the FMR area.

Granted By: Lourdes Castro Ramírez, Principal Deputy Assistant Secretary for Public and Indian Housing.

Date Granted: December 11, 2015.

Reason Waived: The proposed 2016 FMRs for HACA's jurisdiction had dropped and its rental survey had expired. Since it had provided comments to the final rule on the proposed FMRs and committed to another rental survey, these regulations were temporarily waived until March 1, 2015.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.503(c)(3) through (5).

Project/Activity: Berkeley Housing Authority (BHA), Berkeley, CA.

Nature of Requirement: HUD's regulations at 24 CFR 982.503(c)(3) and (5) allow the Secretary to approve an exception payment standard over 120 percent of the fair market rents (FMR) with justification and for no more than 50 percent of the population of the FMR area.

Granted By: Lourdes Castro Ramírez, Principal Deputy Assistant Secretary for Public and Indian Housing.

Date Granted: December 11, 2015.

Reason Waived: The proposed 2016 FMRs for BHA's jurisdiction had dropped and its rental survey had expired. Since it had provided comments to the final rule on the proposed FMRs and committed to another rental survey, these regulations were temporarily waived until March 1, 2015.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.503(c)(3) through (5).

Project/Activity: Contra Costa Housing Authority (CCHA), Contra Costa, CA.

Nature of Requirement: HUD's regulations at 24 CFR 982.503(c)(3) and (5) allow the Secretary to approve an exception payment standard over 120 percent of the fair market rents (FMR) with justification and for no more than 50 percent of the population of the FMR area.

Granted By: Lourdes Castro Ramírez, Principal Deputy Assistant Secretary for Public and Indian Housing.

Date Granted: December 11, 2015.

Reason Waived: The proposed 2016 FMRs for CCHA's jurisdiction had dropped and its rental survey had expired. Since it had provided comments to the final rule on the proposed FMRs and committed to another rental survey, these regulations were temporarily waived until March 1, 2015.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.503(c)(3) through (5).

Project/Activity: Housing Authority of the City of Livermore (HACL), Livermore, CA.

Nature of Requirement: HUD's regulations at 24 CFR 982.503(c)(3) and (5) allow the Secretary to approve an exception payment standard over 120 percent of the fair market rents (FMR) with justification and for no more than 50 percent of the population of the FMR area.

Granted By: Lourdes Castro Ramírez, Principal Deputy Assistant Secretary for Public and Indian Housing.

Date Granted: December 11, 2015.

Reason Waived: The proposed 2016 FMRs for HACL's jurisdiction had dropped and its rental survey had expired. Since it had provided comments to the final rule on the proposed FMRs and committed to another rental survey, these regulations were temporarily waived until March 1, 2015.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.503(c)(3) through (5).

Project/Activity: Oakland Housing Authority (OHA), Oakland, CA.

Nature of Requirement: HUD's regulations at 24 CFR 982.503(c)(3) and (5) allow the Secretary to approve an exception payment standard over 120 percent of the fair market rents (FMR) with justification and for no more than 50 percent of the population of the FMR area.

Granted By: Lourdes Castro Ramírez, Principal Deputy Assistant Secretary for Public and Indian Housing.

Date Granted: December 11, 2015.

Reason Waived: The proposed 2016 FMRs for OHA's jurisdiction dropped and its rental survey expired. Since it had provided comments to the final rule on the proposed FMRs and committed to another rental survey, these regulations were temporarily waived until March 1, 2015.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Orange County Housing Authority (OCHA), Santa Ana, CA.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: October 16, 2015.

Reason Waived: The participant, who is a person with disabilities, required an exception payment standard to remain in his current unit which is wheelchair-accessible and meets the needs of his disability. To provide this reasonable accommodation so that the client could remain in his unit and pay no more than 40 percent of his adjusted income toward the family share, the OCHA was allowed to approve an exception payment standard that exceeded the basic range of 90 to 110 percent of the FMR.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Orange County Housing Authority (OCHA), Santa Ana, CA.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: October 16, 2015.

Reason Waived: The participant, who is a person with disabilities, required an exception payment standard to remain in his current unit (with his live-in aide) which is wheelchair-accessible and meets the needs of his disability. To provide this reasonable accommodation so that the client could remain in his unit and pay no more than 40 percent of his adjusted income toward the family share, the OCHA was allowed to approve an exception payment standard that exceeded the basic range of 90 to 110 percent of the FMR.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Howard County Housing (HCH), Columbia, MD.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: October 19, 2015.

Reason Waived: A voucher participant, who is a person with disabilities, required an exception payment standard to move to remain in his current unit that met his needs. To provide this reasonable accommodation so that the participant could remain in his unit and pay no more than 40 percent of his adjusted income toward the family share, the MCHA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Marion County Housing Authority (MCHA), Salem, OR.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: October 19, 2015.

Reason Waived: A voucher participant, who is a person with disabilities, required an exception payment standard to move to remain in his current unit that met his needs. To provide this reasonable accommodation so that the participant could remain in his unit and pay no more than 40 percent of his adjusted income toward the family share, the MCHA was allowed to approve an exception payment standard that exceeded the basic range of 90 to 110 percent of the FMR.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: San Diego Housing Commission (SDHC), San Diego, CA.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: October 27, 2015.

Reason Waived: A voucher participant, who is a person with disabilities, required an exception payment standard to remain in his current unit that met his needs. To provide this reasonable accommodation so that the participant could remain in his unit and pay no more than 40 percent of his adjusted income toward the family share, the SDHC was allowed to approve an exception payment standard that exceeded the basic range of 90 to 110 percent of the FMR.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: St. Paul Public Housing Agency (SPPHA), St. Paul, MN.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: October 30, 2015.

Reason Waived: A voucher applicant, who is a person with disabilities, required an exception payment standard to move to a unit that met his needs. To provide this reasonable accommodation so that the participant could move to a unit and pay no more than 40 percent of his adjusted income toward the family share, the SPPHA was allowed to approve an exception payment standard that exceeded the basic range of 90 to 110 percent of the FMR.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Arvada Housing Authority (AHA), Arvada, CO.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: November 3, 2015.

Reason Waived: A voucher participant, who is a person with disabilities, required an exception payment standard to remain in her unit that is wheelchair accessible. To provide this reasonable accommodation so that the participant could remain in her current unit and pay no more than 40 percent of her adjusted income toward the family share, the AHA was allowed to approve an exception payment standard that exceeded the basic range of 90 to 110 percent of the FMR.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Housing Authority of Grays Harbor (HAGH), Aberdeen, WA.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: November 13, 2015.

Reason Waived: A voucher participant, who is a person with disabilities, required an exception payment standard to remain in her unit that meets her needs. To provide this reasonable accommodation so that the participant could remain in her current unit and pay no more than 40 percent of her adjusted income toward the family share, the HAGH was allowed to approve an exception payment standard that exceeded the basic range of 90 to 110 percent of the FMR.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Howard County Housing (HCH), Columbia, MD.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: December 18, 2015.

Reason Waived: A portable participant, who has an adult daughter with disabilities, required an exception payment standard to move to a unit that was wheelchair accessible to meet her daughter's needs. To provide this reasonable accommodation so that the family could move to this unit and pay no more than 40 percent of the family's adjusted income toward the family share, the HCH was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: County of Maui Department of Housing and Human Concerns (DHHC), Wailuku, HI.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: December 22, 2015.

Reason Waived: Two voucher applicants, who are persons with disabilities, each required an exception payment standard to move to units that met the needs of their disabilities. To provide these reasonable accommodations so that the applicants could move to these units and pay no more than 40 percent of each one's adjusted income toward the family share, the DHHC was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Colorado Department of Local Affairs (CDLA), Denver, CO.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: December 23, 2015.

Reason Waived: A disabled participant required an exception payment standard to remain in her unit that was wheelchair accessible to meet the needs of her disability. To provide this reasonable accommodation so that the family could remain in this unit and pay no more than 40 percent of the family's adjusted income toward the family share, the CDLA was allowed to approve an exception payment standard that exceeded the basic range of 90 to 110 percent of the FMR.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: County of Salt Lake Housing Authority (CSLHA), Salt Lake City, UT.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: December 23, 2015.

Reason Waived: A disabled participant required an exception payment standard to move to a unit that was wheelchair accessible to meet the needs of her disability. To provide this reasonable accommodation so that the family could move to this unit and pay no more than 40 percent of the family's adjusted income toward the family share, the CSLHA was allowed to approve an exception payment standard that exceeded the basic range of 90 to 110 percent of the FMR.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Boulder County Department of Housing and Human Services (DHHS), Boulder, CO.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: December 28, 2015.

Reason Waived: A disabled participant required an exception payment standard to remain in a unit that met the needs of her disability. To provide this reasonable accommodation so that the family could remain in this unit and pay no more than 40 percent of the family's adjusted income toward the family share, the DHHS was allowed to approve an exception payment standard that exceeded the basic range of 90 to 110 percent of the FMR.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 983.6(b).

Project/Activity: Community Development Commission of Mendocino County (CDCMC), Ukiah, CA.

Nature of Requirement: HUD's regulation at 24 CFR 983.6(b) states that all project-based certificate and project-based voucher (PBV) units, for which the PHA has issued a notice of proposal selection or which are under an Agreement to enter into a Housing Assistance Payments (AHAP) or HAP contract, count against the 20 percent maximum amount of budget authority. This provision is also statutory in accordance with section 8(o)(13)(B) of the U. S. Housing Act of 1937.

Granted By: Lourdes Castro Ramírez, Principal Deputy Assistant Secretary for Public and Indian Housing.

Date Granted: November 6, 2015.

Reason Waived: Budget authority only provided for two units to be project-based. The CDCMC received one proposal in response to its Request for Proposals for 10 units and the owner was not willing to project-base fewer units. If the CDCMC could not project-base all 10 vouchers, CDCMC would have to return its voucher allocation because of the difficulties the homeless veterans were having leasing units. The CDCMC's success rate for these vouchers was only 62 percent. In addition, the Appropriations Acts for the HUD-VASH program allow for waivers of statutes.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Municipality of Aguas Beunas (MAB), Aguas Beuenas, PR.

Nature of Requirement: HUD's regulation at 24 CFR 985.101(a) states a PHA must submit the HUD-required Section Eight Management Assessment Program (SEMAP) certification form within 60 calendar days after the end of its fiscal year.

Granted By: Lourdes Castro Ramírez, Principal Deputy Assistant Secretary for Public and Indian Housing.

Date Granted: October 16, 2015.

Reason Waived: This waiver was granted because between the time of the MGL's fiscal year ending June 30, 2015, and its SEMAP submission deadline, the Municipality of Aguas Buenas was declared to be in a state of emergency due to Tropical Storm Erika. Power and internet connections were unavailable. MAB was unable to submit its SEMAP certification.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Municipality of Anasco (MA), Anasco, PR.

Nature of Requirement: HUD's regulation at 24 CFR 985.101(a) states a PHA must submit the HUD-required Section Eight Management Assessment Program (SEMAP) certification form within 60 calendar days after the end of its fiscal year.

Granted By: Lourdes Castro Ramírez, Principal Deputy Assistant Secretary for Public and Indian Housing.

Date Granted: October 16, 2015.

Reason Waived: This waiver was granted because between the time of the MA's fiscal year ending June 30, 2015, and its SEMAP submission deadline, the Municipality of Anasco was declared to be in a state of emergency due to Tropical Storm Erika. Power and internet connections were unavailable. MA was unable to submit its SEMAP certification.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Choanoke Area Development Association (CADA), Rich Square, NC.

Nature of Requirement: HUD's regulation at 24 CFR 985.101(a) states a PHA must submit the HUD-required Section Eight Management Assessment Program (SEMAP) certification form within 60 calendar days after the end of its fiscal year, June 30, 2015.

Granted By: Lourdes Castro Ramírez, Principal Deputy Assistant Secretary for Public and Indian Housing.

Date Granted: October 16, 2015.

Reason Waived: This waiver was granted because at the time of SEMAP certification, submission, the CADA's Housing Manager was on extended leave due to emergency surgery. She was unable to guide anyone else through the process. Therefore, the CADA was unable to submit its SEMAP certification successfully.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Municipal Government of Lajas (MGL), Lajas, PR.

Nature of Requirement: HUD's regulation at 24 CFR 985.101(a) states a PHA must submit the HUD-required Section Eight Management Assessment Program (SEMAP) certification form within 60 calendar days after the end of its fiscal year.

Granted By: Lourdes Castro Ramírez, Principal Deputy Assistant Secretary for Public and Indian Housing.

Date Granted: October 16, 2015.

Reason Waived: This waiver was granted because between the time of the MGL's fiscal year ending June 30, 2015, and its SEMAP submission deadline, the Municipality of Lajas was declared to be in a state of emergency due to Tropical Storm Erika. Power and internet connections were unavailable. MGL was unable to submit its SEMAP certification.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: State of New Jersey Division of Housing and Community Resources (DHCR), Trenton, NJ.

Nature of Requirement: HUD's regulation at 24 CFR 985.101(a) states a PHA must submit the HUD-required Section Eight Management Assessment Program (SEMAP) certification form within 60 calendar days after the end of its fiscal year, June 30, 2015.

Granted By: Lourdes Castro Ramírez, Principal Deputy Assistant Secretary for Public and Indian Housing.

Date Granted: October 16, 2015.

Reason Waived: This waiver was granted because DHCR had been involved with a major Internal Revenue Service audit which demanded a significant amount of staff time and shift work. The audit was initiated in the later part of April 2015 and the time demanded precluded the DHCR from submitting its SEMAP certification on time.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Municipality of Toa Alta (MTA), Toa Alta, PR.

Nature of Requirement: HUD's regulation at 24 CFR 985.101(a) states a PHA must submit the HUD-required Section Eight Management Assessment Program (SEMAP) certification form within 60 calendar days after the end of its fiscal year.

Granted By: Lourdes Castro Ramírez, Principal Deputy Assistant Secretary for Public and Indian Housing.

Date Granted: October 16, 2015.

Reason Waived: This waiver was granted because between the time of the MGL's fiscal year ending June 30, 2015, and its SEMAP submission deadline, the Municipality of Toa Altas was declared to be in a state of emergency due to Tropical Storm Erika. Power and internet connections were unavailable. MTA was unable to submit its SEMAP certification.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: South Tucson Housing Authority (STHA), South Tucson, AZ.

Nature of Requirement: HUD's regulation at 24 CFR 985.101(a) states a PHA must submit the HUD-required Section Eight Management Assessment Program (SEMAP) certification form within 60 calendar days after the end of its fiscal year.

Granted By: Lourdes Castro Ramírez, Principal Deputy Assistant Secretary for Public and Indian Housing.

Date Granted: October 30, 2015.

Reason Waived: This waiver was granted because the STHA entered its SEMAP certification into the PIC Test Module instead of the PIC module during the reporting period. The STHA was unaware of this mistake until after the submission deadline.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: South Tucson Housing Authority (STHA), South Tucson, AZ.

Nature of Requirement: HUD's regulation at 24 CFR 985.101(a) states a PHA must submit the HUD-required Section Eight Management Assessment Program (SEMAP) certification form within 60 calendar days after the end of its fiscal year.

Granted By: Lourdes Castro Ramírez, Principal Deputy Assistant Secretary for Public and Indian Housing.

Date Granted: October 30, 2015.

Reason Waived: This waiver was granted because the STHA entered its SEMAP certification into the PIC Test Module instead of the PIC module during the reporting period. The STHA was unaware of this mistake until after the submission deadline.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Boley Centers Housing Authority (BCHA), St. Petersburg, FL.

Nature of Requirement: HUD's regulation at 24 CFR 985.101(a) states a PHA must submit the HUD-required Section Eight Management Assessment Program (SEMAP) certification form within 60 calendar days after the end of its fiscal year.

Granted By: Lourdes Castro Ramírez, Principal Deputy Assistant Secretary for Public and Indian Housing.

Date Granted: December 4, 2015.

Reason Waived: This waiver was granted because the BCHA encountered repeated technical difficulties during the SEMAP certification process. It was the first time the new director attempted this process and the BCHA was unable to submit its certification before the deadline.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Housing Authority of the City of Carrollton (HACC), Carrollton, GA.

Nature of Requirement: HUD's regulation at 24 CFR 985.101(a) states a PHA must submit the HUD-required Section Eight Management Assessment Program (SEMAP) certification form within 60 calendar days after the end of its fiscal year.

Granted By: Lourdes Castro Ramírez, Principal Deputy Assistant Secretary for Public and Indian Housing.

Date Granted: December 15, 2015.

Reason Waived: This waiver was granted because the HACC is a small PHA required to submit SEMAP certifications every other year. The local field office provided incorrect information regarding reporting dates that precluded the HACC from submitted its certification at the correct fiscal year end.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Housing Authority of Newnan (HAN), Newnan, GA.

Nature of Requirement: HUD's regulation at 24 CFR 985.101(a) states a PHA must submit the HUD-required Section Eight Management Assessment Program (SEMAP) certification form within 60 calendar days after the end of its fiscal year.

Granted By: Lourdes Castro Ramírez, Principal Deputy Assistant Secretary for Public and Indian Housing.

Date Granted: December 15, 2015.

Reason Waived: This waiver was granted because the HAN is a small PHA required to submit SEMAP certifications every other year. The local field office provided incorrect information regarding reporting dates that precluded the HAN from submitted its certification at the correct fiscal year end.

Contact: Becky Primeaux, Housing Voucher Management and Operations Division, Office of Public Housing and Voucher Programs, Office of Public and Indian Housing, Department of Housing and Urban Development, 451 7th Street SW., Room 4216, Washington, DC 20410, telephone (202) 708-0477.

[FR Doc. 2016-05956 Filed 3-16-16; 8:45 am]

BILLING CODE 4210-67-P